DEPARTMENT OF COMMERCE

International Trade Administration

[A-570-803]

Heavy Forged Hand Tools, Finished or Unfinished, With or Without Handles, From the People's Republic of China: Extension of Time Limit for Final Results of Antidumping Duty Administrative Review on Bars/Wedges

AGENCY: Import Administration, International Trade Administration, Department of Commerce.

EFFECTIVE DATE: July 14, 2003.

FOR FURTHER INFORMATION CONTACT: Thomas Martin at (202) 482-3936, AD/CVD Enforcement, Office 4, Group II, Import Administration, International Trade Administration, U.S. Department of Commerce, 14th Street and Constitution Ave, NW, Washington, DC 20230.

SUPPLEMENTARY INFORMATION: On March 27, 2002, the Department published a notice of initiation of administrative reviews of the antidumping duty orders on heavy forged hand tools from the People's Republic of China (PRC), covering the period February 1, 2001 through January 31, 2002. See Initiation of Antidumping and Countervailing Duty Administrative Reviews and Requests for Revocations in Part, 67 FR 14696 (March 27, 2003). The deadline for the preliminary results of review for the order on bars/wedges was extended on October 22, 2002. See Heavy Forged Hand Tools from the People's Republic of China: Extension of Time Limit for Preliminary Results of Antidumping Duty Administrative Review, 67 FR 64869 (October 22, 2002). The preliminary results were published on March 6, 2003. See Heavy Forged Hand Tools, Finished or Unfinished, With or Without Handles, From the People's Republic of China: Preliminary Results of Antidumping Duty Administrative Review of the Order on Bars and Wedges, 68 FR 10690 (March 6, 2003).

Extension Of Time Limits For Final Results Of Review:

Section 751(a)(3)(A) of the Tariff Act of 1930, as amended (the Act), requires the Department to complete its final results of review within 120 days after the date on which the preliminary results were published. However, the Department may extend the deadline for completion of an administrative review if it determines that it is not practicable to complete the review within the statutory time limit. Section 751(a)(3)(A) of the Act allows the Department to extend the deadline for completion of the final results to 180 days from the date of publication of the preliminary results. As a result of the complex issues involved in this review, it is not practicable to complete this review by July 7, 2003, and we are extending the time limit for one month, to August 7, 2003. See Memorandum from Thomas F. Futtner, Acting Office Director, to Holly A. Kuga, Acting Deputy Assistant Secretary, dated concurrently with this notice, which is on file in the Central Records Unit, Room B-099 of the main Commerce building. This notice is published in accordance with section 735(a)(2) of the Act and 19 CFR 351.210(g).

Dated: July 7, 2003.
Holly A. Kuga,
Acting Deputy Assistant Secretary Import Administration, Group II.

[FR Doc. 03-17743 Filed 7-11-03; 8:45 am]

BILLING CODE 3510-DS-S